DEPARTMENT OF DEFENSE

Department of the Army, Corps of Engineers

Termination of Intent To Prepare a Draft Environmental Impact Statement for the Dam Safety Study, Lewisville Dam, Elm Fork Trinity River, Denton County, Texas

AGENCY: Department of the Army, U.S. Army Corps of Engineers, DoD.

ACTION: Notice of Intent; withdrawal.

SUMMARY: The U.S. Army Corps of Engineers (USACE), Fort Worth District, is issuing this notice to advise Federal, state, and local governmental agencies and the public that USACE is withdrawing its Notice of Intent (NOI) to prepare a Draft Environmental Impact Statement (EIS) for the Dam Safety Study, Lewisville Dam, Elm Fork Trinity River, Denton County, Texas.

DATES: The Fort Worth District is planning to hold the next public meeting for the Dam Safety Study, Lewisville Dam, Elm Fork Trinity River, Denton County, TX on Tuesday, September 27, 2016 from 6:00-8:00 p.m. in the Black Box Theater Room at the Lewisville Grand Theater. Notice of this meeting will be sent to all appropriate parties at a later date.

ADDRESSES: U.S. Army Corps of Engineers, Regional Planning and Environmental Center, CESWF-PEC-CI (Attn: Ms. Marcia Hackett), 819 Taylor Street, Room 3A12, Fort Worth, TX 76102.

FOR FURTHER INFORMATION CONTACT: Marcia Hackett, Senior Environmental Planner, Regional Planning and Environmental Center. Email address: marcia.r.hackett@usace.army.mil.

SUPPLEMENTARY INFORMATION: USACE published an NOI in the Federal Register on August 15, 2013 (78 FR 49735) to prepare a Draft EIS pursuant to the National Environmental Policy Act (NEPA) for the Dam Safety Study, Lewisville Dam, Elm Fork Trinity River, Denton County, TX. Public scoping meetings were held on August 20, 2013 and November 16, 2015 to solicit public input on the scope of analysis; significant issues to be evaluated in the Draft EIS; cooperating agencies; direct, indirect and cumulative impacts resulting from the proposed action; and proposed alternatives. Since that time, in the course of project planning and preliminary impact analysis, it no longer appears that impacts associated with project implementation would rise to a level necessitating an EIS, so the Fort Worth District has decided to complete NEPA compliance by preparing an Environmental Assessment instead. Therefore, the Fort Worth District is withdrawing the NOI to prepare a Draft EIS.

Douglas C. Sims,
Chief, Environmental Compliance Branch, Regional Planning and Environmental Center.

[FR Doc. 2016-16517 Filed 7-11-16; 8:45 am]

BILLING CODE 3720-58-P